DEPARTMENT OF DEFENSE

Department of the Air Force

Record of Decision for the Establishment and Modification of Oregon Military Training Airspace

AGENCY: Air National Guard Bureau, Department of the Air Force.

ACTION: Notice of Availability (NOA) of a Record of Decision (ROD).

SUMMARY: On August 29, 2017, the United States Air Force signed the ROD for the Establishment and Modification of Oregon Military Training Airspace. The ROD states the Air Force decision to modify existing airspace and establish new airspace to support the Oregon Air National Guard's F-15 training operations and to implement practicable mitigations.

The decision was based on matters discussed in the Final Environmental Impact Statement (FEIS) for the Proposed Establishment and Modification of Oregon Military Training Airspace; contributions from the public, tribes, and regulatory agencies; and other relevant factors. The FEIS was made available to the public on May 19, 2017 through a NOA in the Federal Register (82 FR 22997) with a 30-day wait period that ended on June 19, 2017.

Authority: This NOA is published pursuant to the regulations (40 CFR part 1506.6) implementing the provisions of the NEPA of 1969 (42 U.S.C. 4321, et seq) and the Air Force's Environmental Impact Analysis Process (32 CFR parts 989.21(b) and 989.24(b)(7)).

FOR FURTHER INFORMATION CONTACT: Mr. Kevin Marek, NGB/A4, 3500 Fetchett Ave, JB Andrews, MD, 20762, ph: 240-612-8855.

Henry Williams,
Acting Air Force Federal Register Liaison Officer.

[FR Doc. 2017-19312 Filed 9-11-17; 8:45 am]

BILLING CODE 5001-10-P